DEPARTMENT OF STATE

[Public Notice 5290]

60-Day Notice of Proposed Information Collection: DS-158, Contact Information and Work History for Nonimmigrant Visa Applicant, OMB Control Number 1405-0144

ACTION: Notice of request for public comment.

SUMMARY: The Department of State is seeking Office of Management and Budget (OMB) approval for the information collection described below. The purpose of this notice is to allow 60 days for public comment in the Federal Register proceeding submission to OMB. This process is conducted in accordance with the Paperwork Reduction Act of 1995.

Title of Information Collection: Contact Information and Work History for Nonimmigrant Visa Applicant.

OMB Control Number: 1405-0144.

Type of Request: Extension of a Currently Approved Collection.

Originating Office: CA/VO.

Form Number: DS-158.

Respondents: Applicants for F, J and M nonimmigrant visas.

Estimated Number of Respondents: 700,000 per year.

Estimated Number of Responses: 700,000 per year.

Average Hours Per Response: 1 hour.

Total Estimated Burden: 700,000 hours per year.

Frequency: Once per respondent.

Obligation to Respond: Required to Obtain or Retain Benefit.

DATES: The Department will accept comments from the public up to 60 days from February 1, 2006.

ADDRESSES: Interested parties are invited to submit written comments to the Chief, Legislation and Regulation Division, Visas Services—DS-158 Reauthorization, Department of State, Washington, DC 20520-30106. Comments may also be sent via e-mail to VisaRegs@state.gov or faxed to (202) 663-3898. The subject line of either an e-mail or fax must be: DS-158 Reauthorization.

FOR FURTHER INFORMATION CONTACT: Direct requests for additional information regarding the collection listed in this notice, including requests for copies of the proposed information collection and supporting documents, should be sent to Andrea Lage of the Office of Visa Services, U.S. Department of State, 2401 E St., NW., L-603, Washington, DC 20522, who may be reached at (202) 663-1221.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection: This form collects contact information, current employment information, and previous work experience information from aliens applying for certain nonimmigrant visas to enter the United States.

Methodology: Form DS-158 will be submitted in person or by mail or fax to U.S. embassies and consulates overseas. A version of the form without personal data is available online.

Dated: December 15, 2005.
Stephen A. Edson,
Deputy Assistant Secretary, Bureau of Consular Affairs, Department of State.

[FR Doc. E6-1357 Filed 1-31-06; 8:45 am]

BILLING CODE 4710-06-P